OFFICE OF SCIENCE AND TECHNOLOGY POLICY

National Science and Technology Council

Framework for a Federal Strategic Plan for Soil Science

ACTION: Notice of Request for Information.

SUMMARY: The Soil Science Interagency Working Group (SSIWG) was established under the National Science and Technology Council to develop a Framework for a Federal Strategic Plan for Soil Science. This Framework aims to establish Federal soil research priorities, ensure availability of tools and information for improved soil management and stewardship, deliver key information to land managers to help them implement soil conserving systems, and inform related policy development and coordination. The Framework identifies current gaps, needs, and opportunities in soil science, and proposes Federal research priorities for the future. The Framework will inform a more comprehensive Federal Strategic Plan that will provide recommendations for improving the coordination of soil science research, as well as the development, implementation, and evaluation of soil conservation and management practices among Federal agencies and between Federal agencies and non-Federal organizations, both domestic and international. This notice solicits public comments on the Framework. The Framework can be accessed at the following link: https://www.whitehouse.gov/sites/default/files/microsites/ostp/SSIWG_Framework_December_2016.pdf.

DATES: Comments must be received by January 10, 2017 to be considered.

ADDRESSES: You may submit comments by any of the following methods:

• Email (preferred): science@ostp.eop.gov. Include [Framework—Soils] in the subject line of the message.

• Fax: (202) 456-6027, Attn: Parker Liautaud.

• Mail: Attn: Parker Liautaud, Office of Science and Technology Policy, Eisenhower Executive Office Building, 1650 Pennsylvania Ave. NW., Washington, DC 20504.

Instructions: Response to this Request for Information (RFI) is voluntary. Responses exceeding 10 pages will not be considered. If responding to a question listed in the SUPPLEMENTARY INFORMATION section, please identify the question number(s) in your comment. Responses to this RFI may be posted without change online. The Office of Science and Technology Policy (OSTP) therefore requests that no business proprietary information, copyrighted information, or personally identifiable information be submitted in response to this RFI. Please note that the U.S. Government will not pay for response preparation, or for the use of any information contained in the response.

FOR FURTHER INFORMATION CONTACT: Parker Liautaud, (202) 881-7564, pliautaud@ostp.eop.gov, OSTP.

SUPPLEMENTARY INFORMATION: In preparing comments on the contents of the Framework, you may wish to consider the following questions:

(1) What research gaps currently exist in soil science and in soil-related questions within the earth and life sciences? Do Federal research programs adequately address these questions and support the necessary research to answer them? If no, where might there be needs for further Federal support?

(2) In general, does the Framework appropriately characterize the threats to U.S. soil resources? Are there significant challenges to soils that have not been mentioned or addressed in the Framework? Are there aspects to the issues explored that have not been considered, which should be?

(3) Land Use and Land Cover Change (LULCC): Have the appropriate LULCC issues been discussed and listed? Are there other forms of LULCC that are important (as related to impacts on soils) and have not been considered?

(4) Land Management Practices: Does the Framework accurately characterize the types of practices that impact agricultural soils? Does the Framework neglect any relevant issues related to the effects of different land management practices on soil?

(5) Climate and Environmental Change: Does the Framework identify the most important research needs? Does it neglect to mention significant opportunities or needs?

(6) Under each “Challenge and Opportunity” subsection, the Framework defines needs and opportunities to address threats to U.S. soils within four broad categories: Research, Technology, Land Management, and Social Sciences. Do these four categories adequately characterize the appropriate needs and opportunities in the Challenge areas? Are there threats to soils that cannot be addressed through programs that fall into one of these four categories?

(7) Priorities for the Future

a. Do these priorities adequately reflect the science and technology needs for ensuring the long-term sustainable use of soils in the United States?

b. Do you believe the list of priorities is comprehensive, or does it neglect one or more important issues?

c. Are the recommendations achievable?

d. The process of developing the Framework into a comprehensive plan may involve adding specificity to the recommendations, as well as suggesting Federal mechanisms for fulfilling them. In what way should these recommendations be made more detailed to better protect soils in the future? What metrics, targets, and benchmarks should be used, and in which soil properties?

Stacy Murphy,
Operations Manager.

[FR Doc. 2016-29187 Filed 12-5-16; 8:45 am]

BILLING CODE 3270-F7-P